SMALL BUSINESS ADMINISTRATION

[Declaration of Disaster #3586]

State of Ohio; Amendment #2

In accordance with a notice received from the Department of Homeland Security—Federal Emergency Management Agency, effective June 29, 2004, the above numbered declaration is hereby amended to include Carroll, Crawford, Delaware, Geauga, Guernsey, Licking, Logan, Richland, Stark, and Tuscarawas Counties as disaster areas due to damages caused by severe storms, and flooding occurring on May 18, 2004, and continuing.

In addition, applications for economic injury loans from small businesses located in the contiguous counties of Ashtabula, Auglaize, Champaign, Coshocton, Franklin, Hardin, Harrison, Holmes, Knox, Marion, Morrow, Seneca, Shelby, Union, and Wyandot in the State of Ohio may be filed until the specified date at the previously designated location. All other counties contiguous to the above named primary counties have been previously declared.

All other information remains the same, i.e., the deadline for filing applications for physical damage is August 2, 2004, and for economic injury the deadline is March 3, 2005.

(Catalog of Federal Domestic Assistance Program Nos. 59002 and 59008).
Dated: June 29, 2004.
Herbert L. Mitchell,
Associate Administrator for Disaster Assistance.

[FR Doc. 04-15360 Filed 7-6-04; 8:45 am]

BILLING CODE 8025-01-P